DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the proposed collection: Employment Under Special Certificates of Apprentices, Messengers and Learners (including Student Learners) (WH-205, WH-209). A copy of the proposed information collection request can be obtained by contacting the office listed below in the addresses section of this Notice.

DATES: Written comments must be submitted to the office listed in the addresses section below on or before March 31, 2003.

ADDRESSES: Ms. Patricia A. Forkel, U.S. Department of Labor, 200 Constitution Ave., NW,. Room S-3201, Washington, DC 20210, telephone (202) 693-0339, fax (202) 693-1451, E-mail pforkel@fenix2.dol-esa.gov. Please use only one method of transmission for comments (mail, fax, or E-mail).

SUPPLEMENTARY INFORMATION:

I. Background

Under section 14(a) of the Fair Labor Standards Act (FLSA), the Secretary of Labor is required, to the extent necessary to prevent curtailment of employment opportunities, to provide for employment under special certificates of categories of workers who may be paid less than the statutory minimum wage. This section also authorizes the Secretary to set limitations on such employment as to time, number, proportion and length of service. These workers include apprentices, messengers and learners. Form WH-209 is an Application for a Certificate to Employ Learners/Messengers at Subminimum Wages. The WH-205 is an Application to Employ Student Learners at Subminimum wages. In addition, an employer may obtain authority from the Department to employ apprentices at subminimum wages. There is no application form associated with the application for apprentices; the employer must submit a copy of the registered apprenticeship program or agreement. These requirements are found at 29 CFR part 520. This information collection is currently approved for use through July 31, 2003.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to determine whether statutory and regulatory requirements for the employment of messengers/apprentices/learners have been met. There is no change in the substance or method of collection since the last OMB approval.

Type of Review: Extension.

Agency: Employment Standards Administration.

Title: Employment Under Special Certificates of Apprentices, Messengers and Learners (including Student Learners).

OMB Number: 1215-0192.

Agency Number: WH-205, WH-209.

Affected Public: Business or other for-profit, Individuals or households, Not-for-profit institutions, State, Local or Tribal Government.

Form/requirement | Respondents/ responses | Time per response | Burden hours
WH-209 | 0 | NA | 0
WH-205 | 400 | 30 min. | 200
Apprentice Application | 0 | NA | 0

Total Respondents/Responses: 400.

Frequency: Annually.

Estimated Total Burden Hours: 400.

Total Burden Cost (capital/startup): $0.

Total Burden Cost (operating/maintenance): $2,866.

Comments submitted in response to this notice will be summarized and/or included in the request for Office of Management and Budget approval of the information collection request; they will also become a matter of public record.

Dated: January 23, 2003.
Bruce Bohanon,
Chief, Branch of Management Review and Internal Control, Division of Financial Management, Office of Management, Administration and Planning, Employment Standards Administration.

[FR Doc. 03-2015 Filed 1-28-03; 8:45 am]

BILLING CODE 4510-27-P